DEPARTMENT OF JUSTICE

Notice of Lodging of Consent Decrees Under the Clean Water Act and Under the Comprehensive Environmental Response, Compensation, and Liability Act

Notice is hereby given that on June 2, 2003, two (2) proposed Consent Decrees in United States and State of Colorado v. Rico Development Corporation, Janice Graham, Independent Executor of the Estate of Wayne Webster, and Gary M. Sell, Personal Representative of the Estate of Virginia Sell, Civil Action No. 99-MK-1386, were lodged with the United States District Court for the District of Colorado.

In this action, Plaintiffs United States and the State of Colorado sought injunctive relief pursuant to the Clean Water Act, 33 U.S.C. 1251 et seq., and pursuant to the Colorado Water Quality Control Act, Section 25-8-101 et seq., Colorado Revised Statutes, for alleged violations of Rico Development Corporation's (“RDC”) Colorado Discharge Permit System permit (“Permit”). Plaintiffs also sought, pursuant to Section 7-114-108, C.R.S., recovery of assets distributed by RDC to its shareholders, Wayne Webster and Virginia Sell. Additionally, the United States sought to recover costs incurred by it for response action performed under the Comprehensive Environmental Response, Compensation, and Liability Act (“CERCLA”), 42 U.S.C. 9601 et seq., at RDC's mine wastewater treatment facility located at the Rico Argentine mine site near Rico, Colorado (the “Site”).

The alleged Clean Water Act violations occurred over the course of several years during which RDC exceeded its Permit limits on numerous occasions and discharged at another location without authorization. The United States also sought compensation for response costs incurred by it in connection with a cleanup of hazardous substances performed at the Site. Under Section 107(a)(1) of CERCLA, 42 U.S.C. 9607(a)(1), the United States alleged that the defendants, as current owners, or as past owners and operators at the time of disposal, are liable for those response costs incurred by the United States not inconsistent with the national contingency plan. In the proposed Consent Decrees, Defendant Janice Graham, Independent Executor of the Estate of Wayne Webster, and Gary M. Sell, Personal Representative of the Estate of Virginia Sell, agree, respectively, to pay the United States $180,000 and $110,000, which sums will be deposited by the United States Environmental Protection Agency (“EPA”) in the Rico-Argentine Special Account within the EPA Hazardous Substance Superfund to be retained and used to conduct or finance response actions at or in connection with the Site, or to be transferred by EPA to the EPA Hazardous Substance Superfund.

The Department of Justice will receive for a period of thirty (30) days from the date of this publication comments relating to the Consent Decrees. Comments should be addressed to the Assistant Attorney General, Environment and Natural Resources Division, PO Box 7611, U.S. Department of Justice, Washington, DC 20044-7611, and should refer to United States and State of Colorado v. Rico Development Corporation, Janice Graham, Independent Executor of the Estate of Wayne Webster, and Gary M. Sell, Personal Representative of the Estate of Virginia Sell, D.J. Ref. DJ#90-5-1-1-06498.

The Consent Decrees may be examined at U.S. EPA Region 8,999 18th Street, Suite 300, Denver, Colorado, 80202. During the public comment period, the Consent Decrees may also be examined on the following Department of Justice website, http://www.usdoj.gov/enrd/open.html. A copy of each Consent Decree may also be obtained by mail from the Consent Decree Library, PO Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $3.00 for the Consent Decree with Janice Graham, Independent Executor of the Estate of Wayne Webster and $2.80 for the Consent Decree with Gary M. Sell, Personal Representative of the Estate of Virginia Sell.

Robert D. Brook,
Assistant Chief, Environmental, Enforcement Section, Environment and Natural Resources Division.

[FR Doc. 03-14824 Filed 6-11-03; 8:45 am]

BILLING CODE 4410-15-M